MERIT SYSTEMS PROTECTION BOARD

Membership of the Merit Systems Protection Board's Performance Review Board

AGENCY: Merit Systems Protection Board.

ACTION: Notice.

SUMMARY: Notice is hereby given of the members of the Merit Systems Protection Board's Performance Review Board.

DATES: October 18, 2018.

FOR FURTHER INFORMATION CONTACT: Pervis Lee, Director of Human Resources, Merit Systems Protection Board, 1615 M Street NW, Washington, DC 20419; telephone: (202) 254-4413; or email: pervis.lee@mspb.gov.

SUPPLEMENTARY INFORMATION: The Merit Systems Protection Board is publishing the names of the current members of the Performance Review Board (PRB) as required by 5 U.S.C. 4314(c)(4). Laura M. Albornoz serves as Chair of the PRB. Louis Lopez, Office of Special Counsel, Susan M. Swafford, Merit Systems Protection Board, and William L. Boulden, Merit Systems Protection Board, serve as members of the PRB.

Jennifer Everling,
Acting Clerk of the Board.

[FR Doc. 2018-22668 Filed 10-17-18; 8:45 am]

BILLING CODE 7400-01-P